SMALL BUSINESS ADMINISTRATION

Region IX Hawaii District Advisory Council; Public Meeting

The Small Business Administration Region IX Hawaii District Advisory Council, located in the geographical area of Honolulu, Hawaii, will hold a public meeting at 10 a.m. on Thursday, November 30, 2000, at the Business Information and Counseling Center, 1111 Bishop Street, Suite 204, Training Center, Honolulu, HI 96813, to discuss such matters as may be presented by members, staff of the Small Business Administration, or others present. For further information write or call Andrew K. Poepoe, District Director U.S. Small Business Administration, 300 Ala Moana Boulevard, Room 2-235 Honolulu, Hawaii 96850; (808) 541-2965.

Bettie Baca,
Counselor to the Administrator/Public Liaison.

[FR Doc. 00-28906 Filed 11-9-00; 8:45 am]

BILLING CODE 8025-01-U